NUCLEAR REGULATORY COMMISSION

10 CFR Parts 72 and 73

[NRC-2009-0558]

RIN 3150-AI78

Security Requirements for Facilities Storing Spent Nuclear Fuel

AGENCY: Nuclear Regulatory Commission.

ACTION: Draft regulatory basis; availability of responses to public comments.

SUMMARY: The U.S. Nuclear Regulatory Commission (NRC), published, on December 16, 2009, a notice of availability and request for comment on the NRC's draft regulatory basis [previously known as the technical basis] document for a proposed rulemaking that would revise the security requirements for storing spent nuclear fuel (SNF) in an independent spent fuel storage installation (ISFSI), and for storing SNF and/or high-level radioactive waste (HLW) in a monitored retrievable storage installation (MRS). The draft regulatory basis, comments on the draft regulatory basis, and the NRC staff's responses to these comments, are located on the Federal e-Rulemaking Web site at http://www.rulemaking.gov under Docket ID: NRC-2009-0558 and copies may also be obtained using the other methods specified below.

ADDRESSES: Please refer to Docket ID NRC-2009-0558 when contacting the NRC about the availability of information regarding this document. You may access publicly-available information related to this action by the following methods:

• Federal Rulemaking Web site: Go to http://www.regulations.gov and search for Docket ID NRC-2009-0558. Address questions about NRC dockets to Carol Gallagher; telephone: 301-287-3422; email: Carol.Gallagher@nrc.gov. For technical questions, contact the individual listed in the FOR FURTHER INFORMATION CONTACT section of this document.

• NRC's Agencywide Documents Access and Management System (ADAMS): You may access publicly available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this document (if that document is available in ADAMS) is provided the first time that a document is referenced. In addition, for the convenience of the reader, the ADAMS accession numbers are provided in a table in the section of this document entitled, Availability of Documents.

• NRC's PDR: You may examine and purchase copies of public documents at the NRC's PDR, Room O1-F21, One White Flint North, 11555 Rockville Pike, Rockville, Maryland 20852.

FOR FURTHER INFORMATION CONTACT: Susan Stuchell, Office of Nuclear Security and Incident Response, U.S. Nuclear Regulatory Commission, Washington, DC 20555-0001; telephone: 301-287-3609; email: Susan.Stuchell@nrc.gov.

SUPPLEMENTARY INFORMATION: In 2007, the Commission approved the initiation of a rulemaking recommended by the NRC staff in SECY-07-0148, to strengthen security requirements at ISFSIs. On December 16, 2009 (74 FR 66589), the NRC staff published in the Federal Register a notice of availability and request for comment on the NRC staff's draft regulatory basis for the rulemaking. In light of opposition, expressed in comments, on some of the key technical approaches discussed in the draft regulatory basis, the staff sought direction from the Commission concerning the proposed rulemaking. In SRM-SECY-10-0114, the Commission directed the staff to continue its assessment of the threat against ISFSIs, engage stakeholders, develop draft guidance, and provide a supplemental paper (now due on May 14, 2014) to evaluate whether changes in the proposed rulemaking's direction are necessary. The NRC staff is still in the information gathering stage for this planned security rulemaking.

The comments on the draft regulatory basis have been summarized for purposes of clarity and conciseness and grouped together into 20 subject areas. Five individuals or groups submitted written comments on the draft regulatory basis, and their comments have been assigned the following identification (ID) numbers:

Commenter | Commenter's ID No.
U.S. Department of Energy | (1)
Nuclear Energy Institute | (2)
Union of Concerned Scientists | (3)
Anonymous via Greenpeace | (4)
Prairie Island Indian Community | (5)

The NRC staff has responded to all comments. The comment summaries and the staff's responses are available in ADAMS under Accession No. ML13085A150.

Availability of Documents: The following table lists the documents that are available to the public and how they may be obtained:

Document | PDR | Web | ADAMS Accession No.
Draft Technical Basis, Revision 1 (December 2009) [NRC-2009-0558] | X | X | ML093280743.
Commission: SECY-10-0114 (August 26, 2010) | X |  | ML101960614.
Commission: SRM-SECY-10-0114 (November 16, 2010) | X | X | ML103210025.
Commission: SECY-07-0148 (redacted) (August 28, 2007) | X | X | ML080030050.
Commission: SRM-SECY-07-0148 (December 18, 2007) | X | X | ML073530119.
Comment: Nuclear Energy Institute, January 29, 2010 | X | X | ML100341196.
Comment: Prairie Island Indian Community, January 31, 2010 | X | X | ML100341215.
Comment: Anonymous, January 31, 2010 | X | X | ML100341214.
Comment: Department of Energy, February 1, 2010 | X | X | ML100341195.
Comment: Union of Concerned Scientists, January 31, 2010 | X | X | ML100341213.
Comment Summaries and Responses | X | X | ML13085A150.

Dated at Rockville, Maryland, this 17th day of December 2013.
For the Nuclear Regulatory Commission.
Mark Thaggard,
Deputy Director, Division of Security Policy, Office of Nuclear Security and Incident Response.

[FR Doc. 2013-30679 Filed 12-23-13; 8:45 am]

BILLING CODE 7590-01-P